DEPARTMENT OF HEALTH AND HUMAN SERVICES

National Institutes of Health

National Institute on Drug Abuse; Amended Notice of Meeting

Notice is hereby given of a change in the meeting of the National Institute on Drug Abuse Special Emphasis Panel, October 31, 2023, 12:00 p.m. to October 31, 2023, 2:00 p.m., National Institute on Drug Abuse, 301 North Stonestreet Avenue, Bethesda, MD 20892 which was published in the Federal Register on September 25, 2023, FR Doc 2023-20693, 88-FR 65696.

This notice is being amended to change the agenda from reviewing and evaluating grant applications to reviewing and evaluating contract proposals. The meeting date, time and location will remain the same. The meeting is closed to the public.

Dated: September 26, 2023.
Tyeshia M. Roberson-Curtis,
Program Analyst, Office of Federal Advisory Committee Policy.

[FR Doc. 2023-21645 Filed 9-29-23; 8:45 am]

BILLING CODE 4140-01-P